DEPARTMENT OF COMMERCE

International Trade Administration

[Docket No. 000515143-0245-03]

RIN 0625-XX23

Special American Business Internship Training Program (SABIT)

AGENCY: International Trade Administration, Commerce.

ACTION: Notice of extension of funding availability for grants under the Special American Business Internship Training Program (SABIT)

SUMMARY: This Notice supplements the Federal Register Notice of June 7, 2000, (65 FR No. 110 36117-36120) and July 21, 2000, (65 FR No. 141 45359) announcing the availability of funds for the Special American Business Internship Training Program (SABIT), for training business executives (also referred to as “interns”) from the Newly Independent States of the former Soviet Union. All information in the previous announcement remains the same, except for the changes to the closing date and an increase of $700,000 in the amount of funding, bringing the available total to $1.5 million. This increase is based on the availability of funds.

DATES: This Notice extends the closing date of the referenced Federal Register Notice for 3 months to 5 p.m. November 30, 2000. All awards are expected to be made prior to January 31, 2001.

FOR FURTHER INFORMATION CONTACT: Liesel Duhon, Director, Special American Business Internship Training Program, International Trade Administration, U.S. Department of Commerce, phone—(202) 482-0073, facsimile—(202) 482-2443. These are not toll free numbers.

Dated: August 24, 2000.
Liesel Duhon,
Director, SABIT Program.

[FR Doc. 00-22129 Filed 8-29-00; 8:45 am]

BILLING CODE 3510-HE-P